DEPARTMENT OF ENERGY

Federal Energy Regulatory Commission

[P-11214-015]

City of Carlyle, IL; Notice of Application for Surrender of License and Soliciting Comments, Motions To Intervene, and Protests

October 3, 2007.

Take notice that the following application has been filed with the Commission and is available for public inspection:

a. Application Type: Surrender of License.

b. Project No.: 11214-015.

c. Date Filed: September 20, 2007.

d. Applicant: City of Carlyle, Illinois.

e. Name of Project: Carlyle Project.

f. Location: On Kaskaskia River in Clinton County, Illinois. The project occupies lands of the United States managed by the U.S. Army Corps of Engineers.

g. Filed Pursuant to: Federal Power Act, 16 U.S.C. 791a-825r.

h. Applicant Contact: Mr. John Hodapp, Electric Foreman, City of Carlyle, 850 Franklin Street, Carlyle, IL 62231; telephone (618) 594-5215 or Donald H. Clarke, Counsel for the City of Carlyle, Law Offices of GKRSI, 1500 K Street, NW., Suite 300, Washington, DC 20005; telephone (202) 408-5400.

i. FERC Contact: Diane M. Murray, Telephone (202) 502-8838, and e-mail diane.murray@ferc.gov.

j. Deadline for filing comments, motions to intervene, and protests: November 15, 2007. All documents (original and eight copies) should be filed with: Secretary, Federal Energy Regulatory Commission, 888 First Street, NE., Washington, DC 20426.

k. Description of Request: The licensee filed an application to surrender its license for the unconstructed Carlyle Hydroelectric Project. No ground disturbing activities have occurred. The U.S. Army Corps of Engineers, which owns and operates the Carlyle Dam, remains in control of the dam and appurtenant facilities.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—All filings must (1) bear in all capital letters the title “COMMENTS”, “RECOMMENDATIONS FOR TERMS AND CONDITIONS”, “PROTEST”, OR “MOTION TO INTERVENE”, as applicable, and the Project Number of the particular application to which the filing refers. All documents (original and eight copies) should be filed with: Kimberly Bose, Secretary, Federal Energy Regulatory Commission, 888 First Street, NE., Washington, DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. e-Filing: Motions to intervene, protests, and comments may be filed electronically via the Internet in lieu of paper. See, 18 CFR 385.2001(a)(1)(iii) and the instructions on the Commission's Web site at http://www.ferc.gov under the “e-Filing” link.

Kimberly D. Bose,
Secretary.

[FR Doc. E7-20014 Filed 10-10-07; 8:45 am]

BILLING CODE 6717-01-P